DEPARTMENT OF AGRICULTURE

Food and Nutrition Service

7 CFR Parts 210 and 220

[FNS-2011-0019]

RIN 0584-AE09

National School Lunch Program and School Breakfast Program: Nutrition Standards for All Foods Sold in Schools as Required by the Healthy, Hunger-Free Kids Act of 2010; Approval of Information Collection Request

AGENCY: Food and Nutrition Service, USDA.

ACTION: Interim final rule; notice of approval of Information Collection Request (ICR).

SUMMARY: The interim rule entitled National School Lunch Program and School Breakfast Program: Nutrition Standards for All Foods Sold in Schools as required by the Healthy, Hunger-Free Kids Act of 2010 was published on June 28, 2013. The ICR for this rule approved the creation of a new information collection, which has been assigned the OMB Control Number 0584-0576. The Office of Management and Budget cleared the associated ICR on August 14, 2013. This document announces the approval of the ICR.

DATES: The ICR associated with the interim final rule published in the Federal Register on June 28, 2013, at 78 FR 39068, was approved by OMB on August 14, 2013, under OMB Control Number 0584-0576.

FOR FURTHER INFORMATION CONTACT: Lynn Rodgers-Kuperman, Chief, Program Analysis and Monitoring Branch, Child Nutrition Division, Food and Nutrition Service, USDA, 3101 Park Center Drive, Room 640, Alexandria, Virginia 22302, (703) 305-2590, OR Lynn.Rodgers@fns.usda.gov.

Dated: December 24, 2013.
Yvette S. Jackson,
Acting Administrator, Food and Nutrition Service.

[FR Doc. 2013-31350 Filed 12-30-13; 8:45 am]

BILLING CODE 3410-30-P